DEPARTMENT OF COMMERCE

National Oceanic and Atmospheric Administration

RIN 0648-XG201

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will meet in June, in Kodiak, AK.

DATES: The meetings will be held June 4 through June 11, 2018. See SUPPLEMENTARY INFORMATION for specific dates and times.

ADDRESSES: The Council meeting will be held at the Kodiak Harbor Convention Center, 236 Rezanof Drive, Kodiak, AK 99615. The SSC will meet at the Kodiak Best Western, 236 Rezanof Drive, Kodiak, AK 99615. The AP will meet at the Elks Lodge, 102 W Marine Way, Kodiak, AK 99615.

Council address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION: Council will begin its plenary session at 8 a.m. in the Pavilion Room, Kodiak Convention Center on Wednesday, June 6, continuing through Monday, June 11, 2018. The Scientific and Statistical Committee (SSC) will begin at 8 a.m. in the Harbor Room, Kodiak Best Western on Monday, June 4 and continue through Wednesday, June 6, 2018. The Council's Advisory Panel (AP) will begin at 8 a.m. at the Elks Lodge on Tuesday, June 5, and continue through Friday, June 8, 2018. The Ecosystem Committee will meet in the Stellar Room, Kodiak Convention Center on Tuesday, June 5, 2018, from 9 a.m. to 5 p.m. The Enforcement Committee will meet in the Katurwik Room, Kodiak Convention Center on Tuesday, June 5, 2018, from 1 p.m. to 4 p.m. The IFQ Outreach Meeting will be held in the Pavilion Room, Kodiak Convention Center on Tuesday, June 5, 2018, from 5 p.m. to 6:30 p.m.

Agenda

Monday, June 4, 2018 through Monday, June 11, 2018

Council Plenary Session: The agenda for the Council's plenary session will include the following issues. The Council may take appropriate action on any of the issues identified.

(1) Executive Director's Report (including CCC update, February 2018 Ecosystem Workshop report, Turning the Tide report)

(2) NMFS Management Report (including EFH consultation report, update on decksorting regulatory analysis, draft EM policy directive)

(3) NOAA General Counsel

(4) NOAA Enforcement Report

(5) ADF&G Report

(6) USCG Report

(7) USFWS Report

(8) Protected Species Report

(9) 2017 Observer Annual Report and OAC Report

(10) EM Workgroup Report

(11) ABC/OFL Specifications for Aleutian Islands Golden King Crab, and Crab Plan Team Report

(12) Fixed gear CV rockfish retention

(13) Halibut retention in BSAI pots

(14) BSAI Pacific cod trawl CV analysis

(15) GOA pollock, cod seasons/allocations

(16) GOA Tanner crab observer/effort data

(17) Self-guided halibut rental boats

(18) Social Science Planning Team—Report

(19) Community engagement draft committee scope and ideas for RFP

(20) Kuskokwim River model review for 3 river index

(21) BSAI Halibut ABM evaluation methodology

(22) BSAI Halibut O26 performance standard

(23) Research priorities for 2018

(24) Staff Tasking

The Advisory Panel will address most of the same agenda issues as the Council except B reports.

The SSC agenda will include the following issues:

(1) 2017 Observer Annual Report and OAC Report

(2) ABC/OFL Specifications for Aleutian Islands Golden King Crab, and Crab Plan Team Report

(3) Fixed gear CV rockfish retention

(4) Kuskokwim River model review for 3 river index

(5) Ecosystem Workshop report

(6) Social Science Planning Team—Report

(7) Community engagement draft committee scope and ideas for RFP

(8) Research priorities for 2018

(9) BSAI Halibut ABM evaluation methodology

(10) BSAI Halibut O26 performance standard

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Ecosystem Committee agenda will include the following issues:

(1) Review Report from February 2018 Ecosystem Workshop

(2) Review Conservation Plan for the Northern Fur Seal

(3) Receive information on US Army Corps of Engineers projects

(4) Receive update on NOAA's bathymetric data projects

The Enforcement Committee agenda will include the following issues:

(1) Rockfish retention

(2) Halibut in pots

(3) Scheduling and other issues

The IFQ Outreach meeting agenda will include the following issues:

(1) 20-Year Program Review related to entry level and rural participation

(2) Update on Council requests for IFQ fishery discussion papers

(3) Listening session and open forum

(4) Stakeholder feedback on IFQ fishery and entry-level/rural opportunities

The Agenda is subject to change, and the latest version will be posted at http://www.npfmc.org/

Public Comment

Public comment letters will be accepted and should be submitted either electronically at: comments.npfmc.org or through the mail: North Pacific Fishery Management Council, 605 W 4th Ave., Suite 306, Anchorage, AK 99501-2252. In-person oral public testimony will be accepted.

Special Accommodations

These meetings are physically accessible to people with disabilities. Requests for sign language interpretation or other auxiliary aids should be directed to Shannon Gleason at (907) 271-2809 at least 7 working days prior to the meeting date.

Dated: May 9, 2018.
Rey Israel Marquez,
Acting Deputy Director, Office of Sustainable Fisheries, National Marine Fisheries Service.

[FR Doc. 2018-10341 Filed 5-14-18; 8:45 am]

BILLING CODE 3510-22-P